DEPARTMENT OF THE INTERIOR

Bureau of Land Management

[UT080-1610-DQ-010J]

Call for Coal Resource and Other Resource Information for Public Lands in Daggett, Duchesne, and Uintah Counties, UT

AGENCY: Vernal Field Office, Bureau of Land Management, Vernal, Utah.

ACTION: Call for coal resource and other resource information.

SUMMARY: A Notice of Intent to prepare a Resource Management Plan for public lands and resources in Daggett, Duchesne and Uintah counties, Utah was published in the Federal Register, volume 66, No. 48, Monday, March 12, 2001. This supplements that notice with a call for coal resource and other resource information, as required in 43 CFR 3420.1.

DATES: The comment period will commence with the publication of this notice in the Federal Register and end 30 days after publication.

ADDRESSES: Non-proprietary written comments should be sent to Coal Comments, Bureau of Land Management, Vernal Field Office 170 South 500 East, Vernal, Utah 84078; Fax 435-781-4410. Comments, including names and street addresses of respondents, will be available for public review at the Vernal Field Office during regular business hours, 7:45 a.m. to 4:30 p.m., Monday through Friday except holidays and may be published as part of the Environmental Impact Statement. Proprietary data marked as confidential may be submitted only to James Kohler, Chief, Branch of Solid Minerals, Utah State Office, Bureau of Land Management, P.O. Box 45155, Salt Lake City, Utah 84145-0155. Data marked as confidential shall be treated in accordance with the laws and regulations governing confidentiality of such information.

FOR FURTHER INFORMATION CONTACT: Pete Sokolosky, geologist, BLM Vernal Field Office, 170 South 500 East, Vernal, Utah 84078, phone: 435-891-4400, e-mail Pete_Sokolosky@ut.blm.gov.

SUPPLEMENTARY INFORMATION: The purpose of this call for coal information is to obtain any available coal resource data and any other resource information pertinent to applying the coal unsuitability criteria, and to identify any areas of interest for possible Federal coal leasing. The Resource Management Plan will identify areas acceptable for further consideration for leasing and estimate the amount of recoverable coal. Only those areas that have development potential may be identified as acceptable for further consideration for leasing. Coal companies, State and local governments and the general public are encouraged to submit information on coal geology, economic data and other development potential considerations. Where such information is determined to indicate developmental potential for an area, the area may be included in the land use planning evaluation for coal leasing. The BLM will use the unsuitability criteria and procedures outlined in 43 CFR part 3461 to assess where areas are unsuitable for all or certain stipulated methods of mining. Additionally, multiple use decisions that are not included in the unsuitability criteria may eliminate certain coal deposits from further consideration for leasing to protect other resource values and land uses that are locally, regionally or nationally important or unique. In making these multiple use decisions BLM will place particular emphasis on protecting the following: Air and water quality, wetlands riparian areas and sole source aquifers; the Federal lands which, if leased, would adversely impact units of the National Park System, the National Wildlife Refuge System, the National Trail System, and the National Wild and Scenic Rivers System. Before adopting the resource management plan that makes an assessment of lands acceptable for further consideration for leasing, the BLM will consult with the state Governor and the state agency charged with the responsibility for maintaining the state's coal unsuitability program. Where tribal governments administer areas within or near the boundaries of the land use plan, the bureau shall consult with the appropriate tribal government.

Dated: November 16, 2004.
Sally Wisely,
State Director.

[FR Doc. 05-4426 Filed 3-7-05; 8:45 am]

BILLING CODE 4310-$$-P